DEPARTMENT OF ENERGY

Federal Energy Regulatory Commission

[Docket No. RM21-17-000]

Building for the Future Through Electric Regional Transmission Planning and Cost Allocation and Generator Interconnection; Further Supplemental Notice of Technical Conference

As first announced in the Notice of Technical Conference issued in this proceeding on September 16, 2021, the Federal Energy Regulatory Commission (Commission) will convene a staff-led technical conference in the above-referenced proceeding on Monday, November 15, 2021, from 10:00 a.m. to 4:30 p.m. Eastern Time. The conference will be held electronically. Attached to this Further Supplemental Notice is the final agenda for the technical conference.

Discussions at the conference may involve issues raised in proceedings that are currently pending before the Commission. These proceedings include, but are not limited to:

| Docket No.
Duke Energy Florida v. Florida Power and Light, et al | EL21-93-000
NYISO | ER21-1647-002, EL21-66-001
Neptune Regional Transmission System, LLC and Long Island Power Authority v. PJM | EL21-39-000
PPL Electric Utilities Corporation & PJM Interconnection, LLC | ER21-2282-001
SOO Green HVDC Link Project Co, LLC v. PJM Interconnection, LLC | EL21-85-000
California Independent System Operator Corporation | ER21-2530-000
NextEra Energy Seabrook, LLC | EL21-3-000
NECEC Transmission LLC and Avangrid, Inc. v. NextEra Energy Resources, LLC | EL21-6-000
ISO New England Inc | EL21-94-000

The conference will be open for the public to attend electronically. There is no fee for attendance. Registration for the conference is not required. Information on this technical conference, including a link to the webcast, will be posted on the conference's event page on the Commission's website, https://www.ferc.gov/news-events/events/technical-conference-building-future-through-electric-regional-transmission, prior to the event.

The conference will be transcribed. Transcripts of the conference will be available for a fee from Ace-Federal Reporters, Inc. (202) 347-3700.

Commission conferences are accessible under section 508 of the Rehabilitation Act of 1973. For accessibility accommodations, please send an email to accessibility@ferc.gov, call toll free (866) 208-3372 (voice) or (202) 208-8659 (TTY), or send a fax to (202) 208-2106 with the required accommodations. This notice is issued and published in accordance with 18 CFR 2.1.

For more information about this technical conference, please contact:

David Tobenkin (Technical Information), Office of Energy Policy and Innovation, (202) 502-6445, david.tobenkin@ferc.gov

Lina Naik (Legal Information), Office of General Counsel, (202) 502-8882, Lina.Naik@ferc.gov

Sarah McKinley (Logistical Information), Office of External Affairs, (202) 502-8004, Sarah.Mckinley@ferc.gov

Dated: November 12, 2021.
Kimberly D. Bose,
Secretary.

[FR Doc. 2021-25177 Filed 11-17-21; 8:45 am]

BILLING CODE 6717-01-P